DEPARTMENT OF THE INTERIOR

National Park Service

[NPS-WASO-NAGPRA-NPS0037519; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and has determined that there is a cultural affiliation between the human remains and Indian Tribes or Native Hawaiian organizations in this notice.

DATES: Repatriation of the human remains in this notice may occur on or after April 5, 2024.

ADDRESSES: Jane Pickering, Peabody Museum of Archaeology and Ethnology, 11 Divinity Avenue, Cambridge, MA 02138, telephone (617) 496-2374, email jpickering@fas.harvard.edu.

SUPPLEMENTARY INFORMATION: This notice is published as part of the National Park Service's administrative responsibilities under NAGPRA. The determinations in this notice are the sole responsibility of the PMAE, and additional information on the determinations in this notice, including the results of consultation, can be found in the inventory or related records. The National Park Service is not responsible for the determinations in this notice.

Abstract of Information Available

Based on the information available, human remains representing, at least, 18 individuals have been reasonably identified. No associated funerary objects are present. Human remains representing, at minimum, 15 individuals were collected at the Flandreau Indian School, Moody County, SD. The human remains are hair clippings collected from one individual who was recorded as being 18 years old, one individual who was recorded as being 17 years old, three individuals who were recorded as being 16 years old, five individuals who were recorded as being 15 years old, one individual who was recorded as being 14 years old, three individuals who were recorded as being 13 years old, and one individual who was recorded as being 11 years old and identified as “Chippewa.” George E. Peters took the hair clippings at the Flandreau Indian School between 1930 and 1933. Peters sent the hair clippings to George Woodbury, who donated the hair clippings to the PMAE in 1935. No associated funerary objects are present.

Human remains representing, at minimum, one individual was collected at the Standing Rock School, Sioux County, ND. The human remains are hair clippings collected from one individual who was recorded as being 36 years old and identified as “Chippewa.” E.D. Mossman took the hair clippings at the Standing Rock School between 1930 and 1933. Mossman sent the hair clippings to George Woodbury, who donated the hair clippings to the PMAE in 1935. No associated funerary objects are present.

Human remains representing, at minimum, two individuals were collected at the Cass Lake Chippewa Agency, Cass County, MN. The human remains are hair clippings collected from one individual who was recorded as being 67 years old and one individual who was recorded as being 24 years old and identified as “Chippewa.” M.L. Burns took the hair clippings at the Cass Lake Chippewa Agency between 1930 and 1933. Burns sent the hair clippings to George Woodbury, who donated the hair clippings to the PMAE in 1935. No associated funerary objects are present.

Cultural Affiliation

Based on the information available and the results of consultation, cultural affiliation is clearly identified by the information available about the human remains and associated funerary objects described in this notice.

Determinations

The PMAE has determined that:

• The human remains described in this notice represent the physical remains of 18 individuals of Native American ancestry.

• There is a reasonable connection between the human remains and associated funerary objects described in this notice and the Minnesota Chippewa Tribe, Minnesota (White Earth Band).

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after April 5, 2024. If competing requests for repatriation are received, the PMAE must determine the most appropriate requestor prior to repatriation. Requests for joint repatriation of the human remains are considered a single request and not competing requests. The PMAE is responsible for sending a copy of this notice to the Indian Tribes and Native Hawaiian organizations identified in this notice.

Authority: Native American Graves Protection and Repatriation Act, 25 U.S.C. 3003, and the implementing regulations, 43 CFR 10.10.

Dated: February 27, 2024.
Melanie O'Brien,
Manager, National NAGPRA Program.

[FR Doc. 2024-04657 Filed 3-5-24; 8:45 am]

BILLING CODE 4312-52-P